ENVIRONMENTAL PROTECTION AGENCY

[9944-65-Region 6]

Notice of Proposed Administrative Settlement Pursuant to the Comprehensive Environmental Response, Compensation, and Liability Act

AGENCY: Environmental Protection Agency.

ACTION: Notice; request for public comment.

SUMMARY: In accordance with Section 122(h)(1) of the Comprehensive Environmental Response, Compensation, and Liability Act, as amended (“CERCLA”), 42 U.S.C. 9622(h)(1), notice is hereby given of a proposed administrative settlement concerning the Rab Valley Wood Preserving Superfund Site, located in Panama, LeFlore County, Oklahoma.

The settlement requires Joslyn Manufacturing Company, settling party, to pay a total of $280,000 as payment of past response costs to the Hazardous Substances Superfund. The settlement includes a covenant not to sue pursuant to Sections 106 and 107(a) of CERCLA, 42, U.S.C. 9606 and 9607(a).

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before May 5, 2016.

ADDRESSES: The proposed settlement and additional background information relating to the settlement are available for public inspection at 1445 Ross Avenue, Dallas, Texas 75202-2733. A copy of the proposed settlement may be obtained from Kenneth Talton, 1445 Ross Avenue, Dallas, Texas 75202-2733 or by calling (214) 665-7475. Comments should reference the Rab Valley Wood Preserving Superfund Site, Panama, LeFlore County, Oklahoma, and EPA Docket Number 6-02-16, and should be addressed to Kenneth Talton at the address listed above.

FOR FURTHER INFORMATION CONTACT: Elizabeth Pletan, 1445 Ross Avenue, Dallas, Texas 75202-2733 or call (214) 665-8525.

Dated: March 28, 2016.
Ron Curry,
Regional Administrator, Region 6.

[FR Doc. 2016-07802 Filed 4-4-16; 8:45 am]

BILLING CODE 6560-50-P